DEPARTMENT OF DEFENSE

Department of the Army

Armed Forces Epidemiological Board; Meeting

AGENCY: Department of the Army, DoD.

ACTION: Notice of closed meeting.

SUMMARY: In accordance with section 10(a)(2) of Public Law 92-463, The Federal Advisory Committee Act, this announces the forthcoming working group meeting:

Name of Committee: Armed Forces Epidemiological Board (AFEB).

Dates of Meeting: April 17-18, 2002.

Time: 7:30 a.m.-4:30 p.m. (April 17, 2002); 7:30 a.m.-1 p.m. (April 18, 2002).

The purpose of the meeting is to receive briefings on the health risk of low-level phased array radio frequency energy emissions, specifically risk associated with the PAVE PAWS radar site at Cape Cod Military Reservation.

As part of the deliberations, the working group of the AFEB has requested classified briefings from the Air Force. The meeting location will be at Brooks Air Force Base in San Antionio, Texas. This meeting will be closed to the public in accordance with section 552b(c) of Title 5, U.S.C., specifically subparagraph (1) thereof and Title 5, U.S.C., appendix 1, subsection 10(d). Any interested person may file statements with the committee to be considered at the time and in the manner permitted by the committee.

FOR FURTHER INFORMATION CONTACT: Lt Col James R. Riddle, Executive Secretary, Armed Forces Epidemiological Board, Skyline Six, 5109 Leesburg Pike, Room 682, Falls Church, Virginia 22041-3258, (703) 681-8012/3.

SUPPLEMENTARY INFORMATION: None.

Luz D. Ortiz,
Army Federal Register Liaison Officer.

[FR Doc. 02-6867 Filed 3-20-02; 8:45 am]

BILLING CODE 3710-08-M